DEPARTMENT OF HEALTH AND HUMAN SERVICES

Centers for Disease Control and Prevention

[30Day-10-0612]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Well-Integrated Screening and Evaluation for Women Across the Nation (WISEWOMAN) Reporting System (OMB #0920-0612, exp. 1/31/2010)—Revision—National Center for Chronic Disease Prevention and Health Promotion (NCCDPHP), Centers for Disease Control and Prevention (CDC).

Background and Brief Description

Cardiovascular disease (CVD), which includes heart disease, myocardial infarction, and stroke, is the leading cause of death for women in the United States, and is largely preventable. The WISEWOMAN program (Well-Integrated Screening and Evaluation for Women Across the Nation), administered by the Centers for Disease Control and Prevention (CDC), was established to examine ways of improving the delivery of services for women who have limited access to health care and elevated risk factors for CVD. The program focuses on reducing CVD risk factors and provides screening services for select risk factors such as elevated blood cholesterol, hypertension and abnormal blood glucose levels. The program also provides lifestyle interventions and medical referrals. The WISEWOMAN program serves women who are participating in the National Breast and Cervical Cancer Early Detection Program (NBCCEDP), also administered by CDC.

CDC requests OMB approval to continue collecting information from WISEWOMAN grantees for three years, with changes. There will be a net decrease in the total annualized burden hours. Although the number of funded grantees will increase from 15 to 21, the burden per respondent will decrease due to changes in the data collection plan and schedule. The collection of cost information will be discontinued and the Progress Report will be collected semi-annually instead of quarterly.

Twice per year, each grantee will electronically transmit a Minimum Data Elements (MDE) dataset that contains information about the women served through the WISEWOMAN program, including their demographics, health status, CVD risk factors, referrals and participation in lifestyle interventions. In addition, each grantee will submit two written progress reports per year. The progress reports provide a narrative summary of grantee activities, as well as a discussion of each grantee's progress toward meeting stated programmatic objectives. The information collected from grantees is used to assess the impact of the WISEWOMAN program. The overall program evaluation is designed to demonstrate how WISEWOMAN can obtain more complete health data on vulnerable populations, promote public education about disease incidence and risk-factors, improve the availability of screening and diagnostic services for under-served women, ensure the quality of services provided to under-served women, and develop strategies for improved interventions.

There are no costs to respondents other than their time. The total estimated annualized burden hours are 1,680.

Estimated Annualized Burden Hours
Type of respondent | Form name | Number of respondents | Number of responses per respondent | Average burden per response (in hours)
WISEWOMAN Grantees | Screening and Assessment MDEs | 21 | 2 | 16
| Intervention MDEs | 21 | 2 | 8
| Progress Report | 21 | 2 | 16

Dated: January 15, 2010.
Maryam I. Daneshvar,
Acting Reports Clearance Officer, Centers for Disease Control and Prevention.

[FR Doc. 2010-1167 Filed 1-21-10; 8:45 am]

BILLING CODE 4163-18-P